TENNESSEE VALLEY AUTHORITY

Renewal of the Regional Energy Resource Council Charter

AGENCY: Tennessee Valley Authority (TVA).

ACTION: Notice of Charter Renewal.

SUMMARY: Pursuant to the Federal Advisory Committee Act (FACA) (5 U.S.C. Appendix), the TVA Board of Directors has renewed the Regional Energy Resource Council (Council) charter for an additional two-year period beginning on August 1, 2015.

FOR FURTHER INFORMATION CONTACT: Beth A. Keel, 400 West Summit Hill Drive, WT 9D-K, Knoxville, Tennessee 37902-1499, (865) 632-6113.

SUPPLEMENTARY INFORMATION: Pursuant to FACA and its implementing regulations, and following consultation with the Committee Management Secretariat, General Services Administration (GSA), notice is hereby given that the Council has been renewed for a two-year period beginning August 1, 2015. The Council will provide advice to TVA on its energy related resource activities and the priorities among competing objectives and values.

The Council was originally established in 2013 to advise TVA on its energy related resource activities which include the construction and operation of various supply-side resources, including fossil-fueled power plants, nuclear plants, hydroelectric dams, and renewable resources; the development and management of demand-side resources, including energy efficiency; the design, construction and operation of power delivery systems; and the integration of all of these energy resources into plans for meeting future demands for electricity in the TVA region.

It has been determined that the Council continues to be needed to provide an additional mechanism for public input regarding energy-related issues.

Dated: June 15, 2015.
Joseph J. Hoagland,
Vice President, Stakeholder Relations, Tennessee Valley Authority.

[FR Doc. 2015-15422 Filed 6-22-15; 8:45 am]

BILLING CODE 8120-08-P